ENVIRONMENTAL PROTECTION AGENCY

[ER-FRL-6697-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070512, ERP No. D-FHW-G40196-00, Tier 1 DEIS—I-69/Trans-Texas Corridor Study, Improvement to International, Interstate and Instrastate Movement of Good and People, Louisiana-Mexico/Northeast Texas to Mexico.

Summary: EPA does not object to the proposed project development.

Rating LO.

EIS No. 20070545, ERP No. D-IBR-J39037-ND, Northwest Area Water Supply Project, To Construct a Biota Water Treatment Plant, Lake Sakakawea, Missouri River Basin to Hudson Bay Basin, ND.

Summary: EPA expressed environmental concerns about ecological consequences associated with the transfer of invasive species as a result of water treatment system or infrastructure failures. The monitoring and system maintenance aspects of an adaptive management plan will help ensure that ecological impacts caused by a potential system failure are avoided and minimized.

Rating EC1.

EIS No. 20080040, ERP No. D-IBR-K65337-CA, Folsam Lake State Recreation Area & Folsam Powerhouse State Historic Park, General Plan/Resource Management Plan, Implementation, Placer County, CA.

Summary: EPA expressed environmental concerns about air quality impacts. EPA requested an analysis of air emissions from current and proposed recreational uses, and to demonstrate general conformity.

Rating EC2.

EIS No. 20080049, ERP No. D-FRC-G03037-00, Midcontinent Express Pipeline Project, (Docket Nos. CP08-6-000), Construction and Operation to Facilitate the Transport of 1,500, 000 dekatherms per day of Natural Gas from Production Fields in eastern TX, OK, and AR to Market Hub, Located in various counties and parishes in OK, TX, LA, MS and AL.

Summary: EPA expressed environmental concerns about air quality impacts, wetland impacts, environmental justice issues, and requested information and mitigation to address these concerns.

Rating EC2.

EIS No. 20070021, ERP No. DS-BLM-J02039-MT, Montana Statewide Oil and Gas, Development Alternative for Coal Bed Natural Gas Production and Amendment of the Powder River and Billings Resource Management Plans, Additional Information Three New Alternatives, Implementation, U.S. Army COE section 404 Permit, NPDES Permit,Several Cos, MT.

Summary: EPA expressed environmental concerns about potential impacts to air quality and water quality. EPA recommended establishment of an air quality stakeholder group; additional near-field air quality modeling; and additional water and air quality monitoring.

Rating EC2.

FINAL EISs

EIS No. 20080061, ERP No. F-AFS-L65538-OR, Thorn Fire Salvage Recovery Project, Salvaging Dead and Dying Timber, Shake Table Fire Complex, Malheur National Forest, Grant County, OR.

Summary: EPA's previous concerns have been resolved; therefore, EPA has no objections to the proposed action.

EIS No. 20080064, ERP No. F-BIA-C60006-NY, Oneida Nation of New York Conveyance of Lands into Trust, Proposes to Transfer 17,370 Acre of Fee Land into Federal Trust Status, Oneida, Madison and New York Counties, NY.

Summary: EPA does not object to the proposed action.

EIS No. 20080075, ERP No. F-AFS-F65067-WI, Fishel Vegetation and Transportation Management Project, To Implement Land Management Activities, Eagle River-Florence Ranger District, Chequamegor-Nicolet National Forest, Forest and Vilas Counties, WI.

Summary: EPA's previous issues have been resolved; therefore, EPA does not object to the proposed action.

EIS No. 20070486, ERP No. FS-COE-E36074-00, Yazoo Basin Reformulation Study, Supplement No. 1 to the 1982 Yazoo Area Pump Project, Flood Control, Mississippi River and Tributaries, Yazoo Basin, MS and LA.

Summary: EPA continues to have environmental concerns about significant degradation of extremely valuable wetlands resources that have been, and continue to be, vulnerable to conversion and loss throughout the Mississippi Delta. Uncertainties regarding the efficacy of the compensatory mitigation plan and the potential availability of practicable, less environmentally damaging alternatives to provide needed flood protection improvements, magnify EPA's concerns regarding the nature and extent of the wetlands impacts. EPA considers the proposal a candidate for referral to CEQ. EPA is also considering whether to proceed with an additional review of the project pursuant to our authorities under the CWA.

EIS No. 20080046, ERP No. FS-WAP-K08024-CA, Sacramento Area Voltage Support Project, Selected Preferred Alternative B, Proposal to Build a Double-Circuit 230-kV Transmission Line, Placer, Sacramento and Sutter Counties, CA.

Summary: EPA does not object to the proposed project.

Dated: April 1, 2008.
Ken Mittelholtz,
Environmental Protection Specialist, Office of Federal Activities.

[FR Doc. E8-7055 Filed 4-3-08; 8:45 am]

BILLING CODE 6560-50-P